DEPARTMENT OF COMMERCE

International Trade Administration

[A-552-801]

Certain Frozen Fish Fillets From the Socialist Republic of Vietnam: Correction of Date for the Extension of Time Limit for Preliminary Results of the Seventh Antidumping Duty New Shipper Reviews

AGENCY: Import Administration, International Trade Administration, Department of Commerce.

DATES: Effective Date: September 20, 2010.

FOR FURTHER INFORMATION CONTACT: Alan Ray, AD/CVD Operations, Office 9, Import Administration, International Trade Administration, U.S. Department of Commerce, 14th Street and Constitution Avenue, NW., Washington, DC 20230; telephone: (202) 482-5403.

Correction of the Extension of Time Limits for Preliminary Results

On August 9, 2010, the Department of Commerce (“Department”) published in the Federal Register a notice of extension of time limit for preliminary results of the seventh antidumping duty new shipper reviews for certain frozen fish fillets from the Socialist Republic of Vietnam covering the period August 1, 2009, through February 15, 2010. See Certain Frozen Fish Fillets From the Socialist Republic of Vietnam: Extension of Time Limit for Preliminary Results of Antidumping Duty New Shipper Reviews, 74 FR 74441 (August 9, 2010). The Federal Register notice incorrectly stated that the preliminary results are currently due on January 17, 2010. The correct due date for the preliminary results is actually January 17, 2011.

This notice is published in accordance with section 751(a)(2)(B)(iv) and 777(i) of the Act.

Dated: September 10, 2010.
Susan H. Kuhbach,
Acting Deputy Assistant Secretary for Antidumping and Countervailing Duty Operations.

[FR Doc. 2010-23351 Filed 9-17-10; 8:45 am]

BILLING CODE 3510-DS-P